DEPARTMENT OF JUSTICE

United States of America v. Cenex Harvest States Cooperatives; Notice of Lodging of Proposed Consent Decree Under the Clean Water Act

Notice is hereby given that on June 15, 2001, a proposed consent decree was lodged with the United States District Court for the District of Minnesota in a civil action captioned United States of America v. Cenex Harvest States Cooperatives, Civil Action No. 01-1096 (PAM/SRN).

In this action the United States sought civil penalties and injunctive relief against Defendant Cenex Harvest States Cooperatives (“Cenex”) for violations of the Clean Water Act (“CWA”) in connection with the operations of its facility at 2020 Riverfront Drive, Mankato, Minnesota. The United States alleged violations for failure to file a revised Facility Response Plan in violation of 40 CFR 112.20 and 112.21, 33 U.S.C. 1321(j)(5); failure to prepare and maintain a Spill Prevention, Control and Countermeasures Plan in violation of 40 CFR 112.3, 33 U.S.C. 1321(j)(1)(C); failure to file a response to an information request in violation of 33 U.S.C. 1318(a) and 1321(m); and for allowing an authorizing discharge from the facility in violation of 33 U.S.C. 1321(b)(3).

The consent decree would resolve the claims by the payment of a civil penalty of $56,250 plus the implementation of two Supplemental Environmental Projects to cost Cenex no less than $300,000. The projects are (1) to install actuators on two gates that would allow the gates to be shut down by the press of a switch from various locations within the facility; and (2) to replace the tank farm monitoring and control system with a modern computer system.

The Department of Justice will receive for a period of thirty (30) days from the date of this publication comments relating to the proposed consent decree. Comments should be addressed to the Assistant Attorney General, Environment and Natural Resources Division, PO Box 7611, U.S. Department of Justice, Washington, DC 20044-7611, and should refer to United States v. Cenex Harvest States Cooperatives, Civil No. 01-1096 (PAM/SRN), District of Minnesota, USAO File No. 1999V00714, DOJ Ref. No. 90-5-1-1-07000.

The proposed consent decree may be examined at the Office of the United States Attorney, Room 600 United States Courthouse, 300 South Fourth Street, Minneapolis MN 55415 (Attention: Freidrich A.P. Siekert, AUSA), and at U.S. EPA Regional Counsel's Office (Attention: Peter Felitti), 77 West Jackson Boulevard, Chicago, Illinois, 60604-3590. A copy of the proposed Consent Decree may also be obtained by mail from the Consent Decree Library, PO Box 7611, U.S. Department of Justice, Washington, DC 20044-7611. In requesting a copy, please enclose a check in the amount of $7.00 (25 cents per page reproduction cost for 28 pages) payable in the Consent Decree Library.

William D. Brighton,
Assistant Chief, Environmental Enforcement Section, Environment and Natural Resources Division.

[FR Doc. 01-16769 Filed 7-3-01; 8:45 am]

BILLING CODE 4410-15-M